DEPARTMENT OF COMMERCE

Bureau of Industry and Security

15 CFR Part 772

Definitions of Terms

CFR Correction

In Title 15 of the Code of Federal Regulations, Parts 300 to 799, revised as of January 1, 2015, on pages 723, 727, and 733, in § 772.1, remove the definitions of “fault tolerance”, “laser duration” and “positioning accuracy”.

[FR Doc. 2015-31737 Filed 12-16-15; 8:45 am]

BILLING CODE 1505-01-D